DEPARTMENT OF JUSTICE

Office of Justice Programs

[OJP (OJJDP) Docket No. 1673]

Meeting of the Federal Advisory Committee on Juvenile Justice

AGENCY: Office of Juvenile Justice and Delinquency Prevention, Justice.

ACTION: Notice of Meeting.

SUMMARY: The Office of Juvenile Justice and Delinquency Prevention (OJJDP) has scheduled a meeting of the Federal Advisory Committee on Juvenile Justice (FACJJ).

DATES AND LOCATION: The meeting will take place on Monday, October 20, 2014, from 8:30 a.m. to 5:30 p.m. (ET) and Tuesday, October 21st 2014, from 8 a.m. to 1 p.m. (ET). It will be held at the Office of Justice Programs at 810 7th Street NW. in the Main 3rd Floor Conference Room, in Washington, DC.

FOR FURTHER INFORMATION CONTACT: Kathi Grasso, Designated Federal Official, OJJDP, Kathi.Grasso@usdoj.gov, or (202) 616-7567. [This is not a toll-free number.]

SUPPLEMENTARY INFORMATION: The Federal Advisory Committee on Juvenile Justice (FACJJ), established pursuant to Section 3(2)A of the Federal Advisory Committee Act (5 U.S.C. App. 2), will meet to carry out its advisory functions under Section 223(f)(2)(C-E) of the Juvenile Justice and Delinquency Prevention Act of 2002. The FACJJ is composed of representatives from the states and territories. FACJJ member duties include: Reviewing Federal policies regarding juvenile justice and delinquency prevention; advising the OJJDP Administrator with respect to particular functions and aspects of OJJDP; and advising the President and Congress with regard to state perspectives on the operation of OJJDP and Federal legislation pertaining to juvenile justice and delinquency prevention. More information on the FACJJ may be found at www.facjj.org.

Meeting Agenda: The proposed agenda will include: (1) Introductions/Welcome New Members; (2) Remarks from and FACJJ discussion with Robert Listenbee, OJJDP Administrator; (3) Subcommittee Meetings with Reports to Full Committee; (4) Webinar Login Discussion; (5) General FACJJ Business; (6) Next Steps. Note: Subcommittee working meetings, anticipated to take place on Monday, October 20th, in the afternoon, will not be open to the public.

Registration: To attend as an observer, members of the public must pre-register online. Interested persons must link to the web registration through www.facjj.org no later than Wednesday, October 15, 2014. Should problems arise with web registration, please contact Daryel Dunston at (240) 432-3014. Please include name, title, organization or other affiliation, full address and phone, fax, and email information and send to his attention either by fax to 866-854-6619, or by email to ddunston@aeioonline.com. Note that these are not toll-free telephone numbers. Also, photo identification will be required for admission to the meeting. Additional identification documents may be required. Meeting space is limited.

Written Comments: Interested parties may submit written comments in advance to Kathi Grasso, Designated Federal Official, by email message to Kathi.Grasso@usdoj.gov, no later than Wednesday, October 15th, 2014. Alternatively, fax your comments to 202-307-2819 and contact Joyce Mosso Stokes at 202-305-4445 to ensure that they are received. [These are not toll-free numbers.]

Robert L. Listenbee,
Administrator, Office of Juvenile Justice and Delinquency Prevention.

[FR Doc. 2014-21197 Filed 9-4-14; 8:45 am]

BILLING CODE 4410-18-P